DEPARTMENT OF THE INTERIOR

National Park Service

[NPS-WASO-NAGPRA-23595; PPWOCRADN0-PCU00RP14.R50000]

Notice of Inventory Completion: U.S. Department of Defense, Army Corps of Engineers, Nashville District, Nashville, TN

AGENCY: National Park Service, Interior.

ACTION: Notice.

SUMMARY: The U.S. Army Corps of Engineers, Nashville District, has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the U.S. Army Corps of Engineers, Nashville District. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the U.S. Army Corps of Engineers, Nashville District, at the address in this notice by September 7, 2017.

ADDRESSES: Dr. Valerie McCormack, Archaeologist, Department of Defense, Nashville District, Corps of Engineers, U.S. Army Corps of Engineers, Nashville District, 110 9th Avenue South, Room A-405, Nashville, TN 37203, telephone (615) 736-7847, email valerie.j.mccormack@usace.army.mil.

SUPPLEMENTARY INFORMATION: Notice is here given in accordance with the Native American Graves Protection and Repatriation Act (NAGPRA), 25 U.S.C. 3003, of the completion of an inventory of human remains and associated funerary objects under the control of the U.S. Army Corps of Engineers, Nashville District, Nashville, TN. The human remains and associated funerary objects were removed from Lyon County, KY.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the U.S. Army Corps of Engineers, Nashville District, and the St. Louis District's Mandatory Center for Expertise for the Curation and Management of Archaeological Collections (MCX-CMAC) professional staff in consultation with representatives of the Absentee Shawnee Tribe of Indians of Oklahoma, Cherokee Nation, Eastern Band of Cherokee Indians, Eastern Shawnee Tribe of Oklahoma, Shawnee Tribe, The Chickasaw Nation, The Osage Nation (previously listed as the Osage Tribe), and United Keetoowah Band of Cherokee Indians in Oklahoma.

History and Description of the Remains

In 1959, human remains representing, at minimum, 128 individuals were removed from the Tinsley Hill Cemetery site (15LY18b). The remains include 21 adult males, 5 adult probable males, 20 adult females, 6 adult probable females, 27 adults of indeterminate sex, 29 subadults, 19 infants, and 1 individual of indeterminate age and sex. No known individuals were identified. The 478 associated funerary objects are 271 pottery sherds, 5 burned clay, 2 projectile points, 11 chipped stone tool fragments, 2 stone drill fragment, 2 stone cores, 1 stone celt, 1 flint chisel, 38 debitage, 2 quartz, 1 sandstone, 24 UID stone, 20 cannel coal, 1 splinter bone awl, 1 worked antler tip, 2 deer teeth, 1 elk tooth, 8 UID bone, 9 pieces of shell, 17 shells, 9 pieces of charcoal, 1 mica, 3 red ochre, 3 crinoids, 1 fossil coral, 19 iron nails, 5 pieces of iron, 1 metal carpet tack, 2 plastic buttons, 13 ceramics, 1 brown glass, and 1 lead.

In 1960 and 1962, human remains representing, at minimum, nine individuals were removed from site 15LY18a, the Tinsley Hill Village. Berle Clay of the University of Kentucky excavated the village area of the site in 1960. During this field season, Clay excavated eight individuals. In 1962, he returned to the site and removed a ninth individual from the village area. Information on the excavations can be found in the publications “Excavations at Tinsley Hill Village, 1960” and “Tinsley Hill Village, 1962” by Clay. The nine individuals are infants. No known individuals were identified. The 7 associated funerary objects are 3 pottery sherds, 1 broken antler tip drilled lengthwise through the base, and 3 faunal fragments.

The University of Kentucky undertook excavations at Tinsley Hill with funds provided by the National Park Service under the River Basins Archaeological Salvage Program. The work occurred prior to the inundation of Lake Barkley. The human remains and associated funerary objects have been in the physical custody of the Webb Museum, University of Kentucky, since excavation, but under the control of the U.S. Army Corps of Engineers.

In the winter and spring of 1958, Douglas W. Schwartz and Tacoma G. Sloan identified site 15LY18 as the only large Mississippian site below Lake Barkley's inundation pool. The site covered approximately 20 acres and contained two mounds, a village area, and a stone box cemetery.

Determinations Made by the U.S. Army Corps of Engineers, Nashville District

Officials of the U.S. Army Corps of Engineers, Nashville District, have determined that:

• Pursuant to 25 U.S.C. 3001(9), the human remains described in this notice are Native American based on the archeological context.

• Pursuant to 25 U.S.C. 3001(9), the human remains described in this notice represent the physical remains of 137 individuals of Native American ancestry.

• Pursuant to 25 U.S.C. 3001(3)(A), the 485 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Treaties, Acts of Congress, or Executive Orders, indicate that the land from which the Native American human remains were removed is the aboriginal land of the Cherokee Nation, Eastern Band of Cherokee Indians, and United Keetoowah Band of Cherokee Indians in Oklahoma.

• Pursuant to 43 CFR 10.11(c)(1), the disposition of human remains from site 15LY18 may be jointly to the Cherokee Nation, Eastern Band of Cherokee Indians, and United Keetoowah Band of Cherokee Indians in Oklahoma.

Additional Requestors and Disposition

Representatives of any Indian Tribe or Native Hawaiian organization not identified in this notice that wish to request transfer of control of these human remains and associated funerary objects should submit a written request with information in support of the request to: Dr. Valerie McCormack, Archaeologist, Department of Defense, Nashville District, Corps of Engineers, U.S. Army Corps of Engineers, Nashville District, 110 9th Avenue South, Room A-405, Nashville, TN 37203, telephone (615) 736-7847, email valerie.j.mccormack@usace.army.mil, by September 7, 2017. After that date, if no additional requestors have come forward, transfer of control of the human remains and associated funerary objects to the Cherokee Nation, Eastern Band of Cherokee Indians, and United Keetoowah Band of Cherokee Indians in Oklahoma may proceed.

The U.S. Army Corps of Engineers, Nashville District is responsible for notifying the Absentee Shawnee Tribe of Indians of Oklahoma, Cherokee Nation, Eastern Band of Cherokee Indians, Eastern Shawnee Tribe of Oklahoma, Shawnee Tribe, The Chickasaw Nation, The Osage Nation, and United Keetoowah Band of Cherokee Indians in Oklahoma that this notice has been published.

Dated: June 19, 2017.
Melanie O'Brien,
Manager, National NAGPRA Program.

[FR Doc. 2017-16624 Filed 8-7-17; 8:45 am]

BILLING CODE 4312-52-P